FEDERAL COMMUNICATIONS COMMISSION

47 CFR Part 64

[CC Docket No. 98-67; FCC 00-56]

Telecommunications Relay Services and Speech-to-Speech Services for Individuals With Hearing and Speech Disabilities

AGENCY: Federal Communications Commission.

ACTION: Proposed rule.

SUMMARY: On March 6, 2000, the Commission released a Further Notice of Proposed Rulemaking (FNPRM) regarding telecommunications relay services (TRS). In the FNPRM, the Commission asks for comment on how to further improve TRS to ensure that TRS remains “functionally equivalent” to voice telecommunications service as telecommunications capabilities change over time. Specifically, the FNPRM asked what changes are necessary to increase public awareness of TRS among all callers, not just those with disabilities, including how a national awareness education campaign can be established; and whether other technologies, services, and features should be made available to TRS users.

DATES: Reply comments are due on or before July 5, 2000.

ADDRESSES: Federal Communications Commission, 445 12th Street, SW, TW-A325, Washington, DC 20554. In addition to filing comments with the Office of the Secretary, a copy of any comments on the information collections contained herein should be submitted to Judy Boley, Federal Communications Commission, Room 1-C804, 445 12th Street, SW, Washington, DC 20554, or via the Internet to jboley@fcc.gov.

FOR FURTHER INFORMATION CONTACT: Marilyn Jones, Attorney, 202/418-2357, Fax 202/418-2345, TTY 202/418-0484, majones@fcc.gov, Common Carrier Bureau.

SUPPLEMENTARY INFORMATION: This is a summary of the Commission's Further Notice of Proposed Rulemaking (FNPRM) in the Matter of Telecommunications Relay Services and Speech-to-Speech Services for Individuals with Hearing and Speech Disabilities, CC Docket No. 98-67, FCC 00-56, adopted February 17, 2000 and released March 6, 2000. The full text of the item is available for inspection and copying during the weekday hours of 9 a.m. to 4:30 p.m. in the FCC Reference Center, Room CY-A257, 445 12th Street, SW, Washington, DC 20554, or copies may be purchased from the Commission's copy contractor, International Transcription Services, Inc., 445 12th Street, SW, Suite CY-B400, Washington, DC 20554, phone (202) 857-3800.

Synopsis of the Further Notice of Proposed Rulemaking

1. In January 1997, we released a Notice of Inquiry (NOI) on the quality of TRS service. Based on the record developed in the NOI, the Commission released a Notice of Proposed Rulemaking (NPRM) that proposed rules to enhance the quality of telecommunications relay service. In response, the Commission received numerous suggestions on ways to improve TRS. After considering the many comments received, we released a Report and Order and Further Notice of Proposed Rulemaking.

2. In the FNPRM, we seek comment on the establishment of a national education campaign to increase awareness of TRS among all callers, not just those with disabilities; whether there should be a separate, nationwide 800 number for STS relay service; and whether TRS providers should have access to SS7 technology in order to better handle emergency calls, be compatible with Caller ID and more efficiently bill for and deliver relay services.

Initial Regulatory Flexibility Analysis

3. As required by the Regulatory Flexibility Act (RFA), 5 U.S.C. 603, the Commission has prepared this present Initial Regulatory Flexibility Analysis (IRFA) of the possible significant economic impact on small entities by the policies and rules in this FNPRM. Written public comments are requested on this IRFA. Comments must be identified as responses to the IRFA and must be filed by the deadlines for comments on the FNPRM. The Commission will send a copy of the FNPRM, including this IRFA, to the Chief Counsel for Advocacy of the Small Business Administration. See 5 U.S.C. 603(a). In addition, the FNPRM and IRFA (or summaries thereof) will be published in the Federal Register.

A. Need for, and Objectives of, the Proposed Rules

4. The Commission is issuing this FNPRM to seek public comment on technological advances that could improve the level and quality of service provided through TRS for the benefit of the community of TRS users. In doing so, the Commission hopes to enhance the quality of TRS, and broaden the potential universe of TRS users consistent with Congress' direction at 47 U.S.C. 225(d)(2) to the Commission to ensure that its regulations encourage the use of existing technology and not discourage or impair the development of improved technology. Specifically, the FNPRM seeks comment on outreach programs, the accessibility of emergency services to TRS, and whether SS7 services should be made available to TRS centers. The intent of these proposed rules is to improve the overall effectiveness of the TRS program.

B. Legal Basis

5. The authority for actions proposed in this FNPRM may be found in sections 1, 4(I) and (j), 201-205, 218 and 225 of the Communications Act of 1934, as amended, 47 U.S.C. 151, 154(i), 154(j), 201-205, 218 and 225.

C. Description and Estimate of the Number of Small Entities to Which the Proposed Rules Will Apply

6. The RFA directs agencies to provide a description of, and, where feasible, an estimate of the number of small entities that may be affected by the proposed rules, if adopted. 5 U.S.C. 603(b)(3). The Regulatory Flexibility Act defines the term “small entity” as having the same meaning as the terms “small business,” “small organization,” and “small business concern” under section 3 of the Small Business Act. 5 U.S.C. 601(3). A small business concern is one that: (1) Is independently owned and operated; (2) is not dominant in its field of operation; and (3) satisfies any additional criteria established by the Small Business Administration (SBA). Small Business Act, 5 U.S.C. 632 (1996). The most reliable source of information regarding the total numbers of certain common carrier and related providers nationwide, as well as the numbers of commercial wireless entities, appears to be data the Commission publishes annually in its Telecommunications Industry Revenue report, regarding the Telecommunications Relay Service.

Telecommunications Industry Revenue, Figure 2

7. TRS Providers. Neither the Commission nor the SBA has developed a definition of small entity specifically applicable to providers of telecommunications relay services. The closest applicable definition under the SBA rules is for telephone communications companies other than radiotelephone (wireless) companies. Small Business Act, 5 U.S.C. 632 (1996). The SBA defines such establishments to be small businesses when they have no more than 1,500 employees. 13 CFR 121.201, Standard Industrial Classification (SIC) Code 4813. According to our most recent data, there are 11 interstate TRS providers, which consist of interexchange carriers, local exchange carriers, state-managed entities, and non-profit organizations. We do not have data specifying the number of these providers that are either dominant in their field of operations, are not independently owned and operated, or have more than 1,500 employees, and we are thus unable at this time to estimate with greater precision the number of TRS providers that would qualify as small business concerns under the SBA's definition. We note, however, that these providers include large interexchange carriers and incumbent local exchange carriers. Consequently, we estimate that there are fewer than 11 small TRS providers that may be affected by the proposed rules, if adopted. We seek comment generally on our analysis identifying TRS providers, and specifically on whether we should conclude, for Regulatory Flexibility Act purposes, that any TRS providers are small entities.

D. Description of Projected Reporting, Recordkeeping, and Other Compliance Requirements

8. This FNPRM imposes no requirement to file any information with the Federal Communications Commission.

E. Steps Taken To Minimize Significant Economic Impact on Small Entities, and Significant Alternatives Considered

9. The RFA requires an agency to describe any significant alternatives that it has considered in reaching its proposed approach, which may include the following four alternatives: (1) The establishment of differing compliance or reporting requirements or timetables that take into account the resources available to small entities: (2) the clarification, consolidation, or simplification of compliance or reporting requirements under the rule for small entities; (3) the use of performance, rather than design, standards; and (4) an exemption from coverage of the rule, or any part thereof, for small entities.

10. The proposals in the FNPRM, and the comments the Commission seeks regarding them, are part of the Commission's analysis of its role with respect to the implementation and operation of nationwide TRS for persons with hearing and speech disabilities. The guiding principal shaping these proposals is Congress' direction to the Commission to ensure that TRS keeps pace with advancing technology and that the Commission's rules do not discourage the implementation of technological advances or improvements. The majority of TRS service is provided by large interexchange carriers and incumbent local exchange carriers, and we believe that the number of small entities impacted by these proposals would be potentially very small. With respect to proposed amendments to the Commission's rules governing TRS, by statute, common carriers providing voice transmission services who are subject to the TRS rules, including small entities, may comply with their obligations individually, through designees, through competitively selected vendor, or in concert with other carriers. 47 U.S.C. 225(c). For this reason, the Commission expects that the proposed rule amendments will have minimal impact on small entities. We tentatively conclude that our proposals in the FNPRM would impose minimum burdens on small entities. We seek comment on our tentative conclusion.

E. Federal Rules That May Duplicate, Overlap, or Conflict With the Proposed Rules

11. None.

List of Subjects in 47 CFR Part 64

Communications common carriers, Disabilities, Telephone, Telecommunications relay service.

Federal Communications Commission.
Magalie Roman Salas,
Secretary.

[FR Doc. 00-15707 Filed 6-20-00; 8:45 am]

BILLING CODE 6712-01-U